DEPARTMENT OF DEFENSE

Office of the Secretary

[Transmittal No. 23-0M]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 23-0M.

Dated: October 17, 2024.
Aaron T. Siegel,
Alternate OSD Federal Register Liaison Officer, Department of Defense.

BILLING CODE 6001-FR-P

BILLING CODE 6001-FR-C

Transmittal No. 23-0M

REPORT OF ENHANCEMENT OR UPGRADE OF SENSITIVITY OF TECHNOLOGY OR CAPABILITY (SEC. 36(B)(5)(C), AECA)

(i) Purchaser: Government of Germany

(ii) Sec. 36(b)(1), AECA Transmittal No.: 21-24

Date: March 12, 2021

Implementing Agency: Navy

(iii) Description: On March 12, 2021, Congress was notified by Congressional certification transmittal number 21-24 of the possible sale, under Section 36(b)(1) of the Arms Export Control Act, of five (5) P-8A Patrol Aircraft; nine (9) Multifunctional Information Distribution System Joint Tactical Radio Systems 5 (MIDS JTRS 5); and twelve (12) LN-251 with Embedded Global Positioning Systems (GPS)/Inertial Navigations Systems (EGls). Also included were commercial engines; Tactical Open Mission Software (TOMS); Electro-Optical (E.O.) and Infrared MX-20HD; AN/AAQ-2(V) I Acoustic System; AN/APY-10 radar; ALQ-240 Electronic Support Measures; NexGen Missile Warning Sensors; AN/PRC-117G Manpack radios include MPE-S type II with SAASM 3.7; Global Positioning Systems (GPS) 524D Precise Positioning System (PPS) for APY-10 Radar; AN/ALQ-213 Electronic Counter Measures; AN/ALE-47 Counter Measures Dispensing Systems; AN/UPX IFF Interrogators; APX-123A(C) IFF Digital Transponders; KIV-78 IFF Mode 5 Cryptographic Appliques; CCM-701A Cryptographic Core Modules; KY-100M, KY-58, KYV-5 for HF-121C radios; AN/PYQ-10 V3 Simple Key Loaders (SKL) with KOV-21 Cryptographic Appliques; aircraft spares; spare engine; support equipment; operational support systems; training; training devices; maintenance trainer/classrooms; publications; software; engineering technical assistance (ETA); logistics technical assistance (LTA); Country Liaison Officer (CLO) support; Contractor Engineering Technical Services (CETS); repair and return (RoR); transportation; aircraft ferry; other associated training and support; and other related elements of logistics and program support. The total estimated program cost was $1.77 billion. Major Defense Equipment (MDE) constituted $1.10 billion of this total.

On April 1, 2022, Congress was notified by Congressional certification transmittal number 0D-22 of the inclusion of the following Major Defense Equipment (MDE) items: eight (8) LAIRCM System Processor Replacements (LSPR) (each included 8 Exelis EGR Global Positioning System (GPS) Receivers integrated with Selective Availability Anti-Spoofing Modules (SAASM); and seven (7) Guardian Laser Transmitter Assemblies (GLTA)). The following non-MDE items were also included: AN/ARC 210 RT-2036(C) radios; Control Interface Unit (CIU) for the AN/AAQ 24(V)N; dual KIV-7Ms; CCM-700A cryptographic modules; KG-175 Encryptor Network Convergence Systems; Advanced Digital Antenna Production (ADAP) Antenna Electronics (AE); and Advanced Digital Antenna Production (ADAP) Controlled Reception Pattern Antenna (CRPA) antennas. The total value of these new items was $13.5 million but did not cause an increase in the total estimated program cost, as pricing was factored in the initial notification. The total estimated program cost remained $1.77 billion, with the total MDE cost remaining $1.10 billion of total program cost.

This transmittal reports the addition of the following MDE items: three (3) P-8A Patrol Aircraft; six (6) Multifunctional Information Distribution System Joint Tactical Radio Systems 5 (MIDS JTRS 5); seven (7) LN-251 with Embedded Global Positioning Systems (GPS)/Inertial Navigation Systems (EGIs); five (5) Large Aircraft Infrared Countermeasures (LAIRCM) System Processor Replacements (each includes five (5)) Exelis EGR Global Positioning System (GPS) Receivers integrated with Selective Availability Anti-Spoofing Modules (SAASM); and four (4) Guardian Laser Transmitter Assemblies (GLTA). The following non-MDE items will also be included: aircraft spare parts; spare engines; support equipment; operational support systems; training; training devices; software; engineering technical assistance (ETA); logistics technical assistance (LTA); RoR; transportation; aircraft ferry; and other related elements of engineering, logistics, and program management support. The addition of these items will result in a net increase in MDE cost of $800 million, resulting in a revised MDE cost of $1.9 billion. The total estimated case value will increase to $3.2 billion.

(iv) Significance: This notification is being provided as the additional MDE items were not enumerated in the original notifications. The proposed articles and services will support Germany's capability to meet current and future threats by providing critical capabilities to coalition maritime operations and will increase interoperability between the United States and Germany.

(v) Justification: This proposed sale will support the foreign policy and national security of the United States by improving the security of a North Atlantic Treaty Organization (NATO) Ally which is an important force for political and economic stability in Europe.

(vi) Sensitivity of Technology: The Sensitivity of Technology Statement contained in the original notification applies to the items reported here.

The highest level of classification of defense articles, components, and services included in this potential sale is SECRET.

(vii) Date Report Delivered to Congress: July 31, 2023

[FR Doc. 2024-24493 Filed 10-22-24; 8:45 am]

BILLING CODE 6001-FR-P